DEPARTMENT OF STATE

[Public Notice 6514]

Announcement of A Meeting of the International Telecommunication Advisory Committee

SUMMARY: This notice announces a meeting of the International Telecommunication Advisory Committee (ITAC) to prepare for the ITU World Telecommunication Policy Forum.

The ITAC will meet to begin preparation of advice for the U.S. government on the ITU World Telecommunication Policy Forum, which will be held from April 21-23, 2009 at the Lisbon Congress Center in Lisbon, Portugal. Preparations for the APECTEL meeting, April 13-18, 2009 in Singapore will also be discussed as well as recent developments in the ITU Telecommunication Standardization, Radiocommunication, and Telecommunication Development Sectors.

The ITAC will meet on March 17, 2009, at 1120 20th Street, NW., 10th floor, Washington, DC 20036. This meeting is open to the public as seating capacity allows. The public will have an opportunity to provide comments at this meeting. People desiring further information on this meeting may contact the Secretariat at jillsonad@state.gov or (202) 647-5872.

February 10, 2009.
Cecily C. Holiday,
International Communications & Information Policy, Department of State.

[FR Doc. E9-3530 Filed 2-18-09; 8:45 am]

BILLING CODE 4710-07-P